DEPARTMENT OF THE INTERIOR

Bureau of Land Management

[CA-340-1210-PC]

South Cow Mountain Wet Weather Temporary Closure; Temporary Motor Vehicle Use Closure of the South Cow Mountain Recreation Area Due to Wet Weather/Snow Conditions, Mendocino and Lake Counties, CA

AGENCY: Bureau of Land Management, Interior.

ACTION: Notice.

SUMMARY: In order to facilitate temporary operations and protect resources in the event of severe seasonal storms and/or natural disasters, the Ukiah Field Office is hereby serving notice that it will be adopting a temporary closure policy to be enacted on an as-needed basis when basic criteria are met. The policy will be in place for up to one year, or upon completion of the Ukiah RMP. The closure will be invoked or lifted through notices in news media outlets, information hot lines and on-the-ground postings. The lands covered by this temporary closure include all public lands administered by the Ukiah Field Office within the South Cow Mountain Recreation Area. Public notices listed on information lines will specify which public lands will be temporarily closed, and will reflect local conditions. One of the following criteria shall be met to temporarily close the area:

(1) State, County or Federal road access to the area is closed or restricted to residents and emergency personnel;

(2) BLM or emergency response personnel cannot access and/or perform their duties in a given location;

(3) Roads or trails are saturated with moisture to the point where vehicle traffic causes ruts or bogs leading to increased erosion. Moisture criteria are detailed in the SUPPLEMENTARY INFORMATION below. The above temporary closure is intended to allow the BLM flexibility in implementing closures while utilizing the most time-effective method of notifying the public. This will also facilitate management to minimize threats to public health and safety, as well as the potential for resource damage. Any time the closure policy is enacted, the following persons will be exempt:

(1) Federal, State, or local law enforcement officers, while engaged in the execution of their official duties.

(2) BLM personnel or their representatives while engaged in execution of their official duties.

(3) Any member of an organized rescue, fire-fighting force, and/or emergency medical services organization while in the performance and execution of an official duty.

(4) Any member of a Federal, State, or local public works department while in the performance of an official duty.

(5) Any person in receipt of a written authorization of exemption obtained from the Ukiah Field Office.

(6) Local landowners, persons with valid existing rights or lease operations, or representatives thereof, who have a responsibility or need to access their property or to continue their operations on public land.

(7) Human use and associated foot traffic into the area during the closure period are exempt from this closure restriction.

EFFECTIVE DATE: This policy will become effective October 1, 2004, and shall remain in effect for up to one year, or upon completion of the Ukiah RMP.

FOR FURTHER INFORMATION CONTACT: Rich Burns, field manager, BLM Ukiah Field Office, 2550 North State St., Ukiah, CA 95482. Telephone: (707) 468-4000.

SUPPLEMENTARY INFORMATION: These closures and restrictions are under the authority of 43 CFR 8364.1. Persons violating this closure shall be subject to the penalties provided in 43 CFR 8360.0-7, including a fine not to exceed $1,000 and/or imprisonment not to exceed 12 months. Parties exempt from the closure action shall be responsible for mitigating any resource damage caused by entering the closed area. Waivers can be granted for emergency circumstances; however, in the event an emergency is caused by a negligent action, the responsible party would then be responsible for the mitigation.

Criteria for weather-related emergency closures at the South Cow Mountain Off-Highway-Vehicle Recreation area are as follows: No action would be taken until the annual total precipitation exceeds 6 inches. The rain year would be the same as that used by the National Weather Service and rainfall data would be acquired from the California Water Resources Board, nearest available rain gauge. Once 6 inches of precipitation has been exceeded, the following would apply: Additional rainfall exceeding ½ inch within a 24 hour period, or 1 inch within a 72 hour period will result in a temporary closure to all motorized vehicles. Once the closure has been implemented, a 3-day drying period will begin after no measurable precipitation is recorded. Once the area has been closed, a field inspection will be completed prior to reopening, and daily thereafter to determine suitability of road and trail conditions. When recorded field observations show that road and trail surfaces have not dried sufficiently to allow traffic without damage to the surface, the area shall remain closed. Closure criteria may be amended or refined as results of area closures are evaluated. Specific criteria may be developed for other areas as needed.

Dated: November 3, 2005.
J. Anthony Danna,
Deputy State Director, Natural Resources, California State Office.

[FR Doc. 05-1018 Filed 1-18-05; 8:45 am]

BILLING CODE 4320-40-P